DEPARTMENT OF THE INTERIOR

National Park Service

[NPS-WASO-NAGPRA-NPS0030075; PPWOCRADN0-PCU00RP14.R50000]

Notice of Inventory Completion: Longyear Museum of Anthropology, Colgate University, Hamilton, NY

AGENCY: National Park Service, Interior.

ACTION: Notice.

SUMMARY: The Longyear Museum of Anthropology has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Longyear Museum of Anthropology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Longyear Museum of Anthropology at the address in this notice by May 20, 2020.

ADDRESSES: Jordan Kerber, Curator of Archaeological Collections, Longyear Museum of Anthropology, Colgate University, Hamilton, NY 13346, telephone (315-228-7559), email jkerber@colgate.edu.

SUPPLEMENTARY INFORMATION: Notice is here given in accordance with the Native American Graves Protection and Repatriation Act (NAGPRA), 25 U.S.C. 3003, of the completion of an inventory of human remains under the control of the Longyear Museum of Anthropology, Colgate University, Hamilton, NY. The human remains were removed from Madison County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Longyear Museum of Anthropology professional staff in consultation with representatives of the Cayuga Nation; Delaware Nation, Oklahoma; Delaware Tribe of Indians; Mohegan Tribe of Indians of Connecticut (previously listed as Mohegan Indian Tribe of Connecticut); Oneida Nation (previously listed as Oneida Tribe of Indians of Wisconsin); Oneida Indian Nation (previously listed as Oneida Nation of New York); Onondaga Nation; Saint Regis Mohawk Tribe (previously listed as St. Regis Band of Mohawk Indians of New York); Seneca Nation of Indians (previously listed as Seneca Nation of New York); Seneca-Cayuga Nation (previously listed as Seneca-Cayuga Tribe of Oklahoma); Shinnecock Indian Nation; Stockbridge Munsee Community, Wisconsin; Tonawanda Band of Seneca (previously listed as Tonawanda Band of Seneca Indians of New York); and the Tuscarora Nation (hereafter referred to as “The Consulted Tribes”).

History and Description of the Remains

At an unknown date before 1960, human remains representing, at minimum, one individual were removed from the Thurston site, Stockbridge, Madison County, NY, by Herbert Bigford, Sr. In 1959, the Longyear Museum of Anthropology purchased the artifact collection of Mr. Bigford from his widow. The human remains consist of a phalanx. It is more likely than not that the phalanx is of a Native American. These human remains were removed from “Burial 14?,” as recorded in Mr. Bigford's catalogue. No known individual was identified. No associated funerary objects are present.

At an unknown date before 1981, human remains representing, at minimum, two individuals were removed from the Thurston site, Stockbridge, Madison County, NY, by Theodore Whitney. In 1980, Mr. Whitney donated his collection to the Longyear Museum of Anthropology. The human remains of individual 1 consist of one clavicle and one scapula. The human remains of individual 2 consist of two cranial fragments. One cranial fragment is possibly a piece of an occipital, and the other cranial fragment is possibly a piece of a temporal or an occipital. No known individuals were identified. No associated funerary objects are present.

The Thurston site dates to A.D. 1625-1640 based on recovered European artifacts, such as glass beads, a snuff box dated 1634, kaolin smoking pipes, and Jesuit rings. These objects were recovered by members of the Chenango Chapter of the New York State Archaeological Association. The Thurston site is located in the aboriginal territory of the Oneida Iroquois (Haudenosaunee), and the dates of occupation correspond to a time when the Oneida Iroquois are known, from historical sources and oral history, to have occupied the region.

At an unknown date before 1966, human remains representing, at minimum, one individual were removed from Site #49, near the southwest shore of Poolville Lake (aka Poolville Pond), Poolville, Madison County, NY, by Walter (“Bud”) Bennett. In 1965, the estate of Mr. Bennett donated his collection to the Longyear Museum of Anthropology. The human remains consist of one cranial fragment. The cranial fragment is possibly a piece of a temporal or an occipital. No known individual was identified. No associated funerary objects are present.

The age of Site #49 dates to ca. 5000 years ago and was occupied intermittently until colonial times based on recovered archeological materials, such as dated projectile points and European artifacts. These objects were recovered by members of the Chenango Chapter of the New York State Archaeological Association. Site #49 site is located in the aboriginal territory of the Oneida Iroquois (Haudenosaunee), and the dates of occupation correspond to a time when the Oneida Iroquois are known, from historical sources and oral history, to have occupied the region.

At an unknown date prior to 2001, human remains representing, at minimum, two individuals were removed from one or more unknown sites likely located in Madison County, NY, by Gordon Ginther. In 2000, Mr. Ginther donated his collection to the Longyear Museum of Anthropology. The human remains of individual 1 consist of three tibia fragments. The human remains of individual 2 consist of a cranial fragment. No known individuals were identified. No associated funerary objects are present.

Mr. Ginther was an avocational archeologist who excavated several Oneida sites in Madison County, NY, during the 1980s and in 1990. The known sites represented in the Ginther Collection at the Longyear Museum of Anthropology are all Oneida sites. They include Bach (ca. 1550), Diable (ca. 1570), Dungey (ca. 1650), Marshall (ca. 1630), Primes Hill (ca. 1696), Stone Quarry (ca. 1640), Thurston (ca. 1625), and Vaillancourt (ca. 1525). Thus, all of the human remains removed by Mr. Ginther likely derive from one or more Oneida sites in Madison County, NY.

Madison County is located in the aboriginal territory of the Oneida Iroquois (Haudenosaunee), and the period of occupation of the sites that Mr. Ginther excavated correspond to a time when the Oneida Iroquois are known, from historical sources and oral history, to have occupied the region.

Determinations Made by the Longyear Museum of Anthropology

Officials of the Longyear Museum of Anthropology have determined that:

• Pursuant to 25 U.S.C. 3001(9), the human remains described in this notice represent the physical remains of six individuals of Native American ancestry.

• Pursuant to 25 U.S.C. 3001(2), there is a relationship of shared group identity that can be reasonably traced between the Native American human remains and the Oneida Indian Nation (previously listed as Oneida Nation of New York).

Additional Requestors and Disposition

Lineal descendants or representatives of any Indian Tribe or Native Hawaiian organization not identified in this notice that wish to request transfer of control of these human remains should submit a written request with information in support of the request to Jordan Kerber, Curator of Archaeological Collections, Longyear Museum of Anthropology, Colgate University, Hamilton, NY 13346, telephone (315-228-7559), email jkerber@colgate.edu, by May 20, 2020. After that date, if no additional requestors have come forward, transfer of control of the human remains to the Oneida Indian Nation (previously listed as Oneida Nation of New York) may proceed.

The Longyear Museum of Anthropology is responsible for notifying The Consulted Tribes that this notice has been published.

Dated: March 25, 2020.
Melanie O'Brien,
Manager, National NAGPRA Program.

[FR Doc. 2020-08326 Filed 4-17-20; 8:45 am]

BILLING CODE 4312-52-P